ENVIRONMENTAL PROTECTION AGENCY

[EPA-HQ-OAR-2013-0119; FRL-9992-06-OAR]

Proposed Information Collection Request; Comment Request; Motor Vehicle and Engine Compliance Program Fees (Renewal), EPA ICR 2080.07, OMB Control No. 2060-0545

AGENCY: Environmental Protection Agency (EPA).

ACTION: Notice.

SUMMARY: The Environmental Protection Agency is planning to submit an information collection request (ICR), “Motor Vehicle and Engine Compliance Program Fees (Renewal)” (EPA ICR No. 2080.07, OMB Control No. 2060-0545) to the Office of Management and Budget (OMB) for review and approval in accordance with the Paperwork Reduction Act (44 U.S.C. 3501 et seq.). Before doing so, EPA is soliciting public comments on specific aspects of the proposed information collection as described below. This is a proposed extension of the ICR, which is currently approved through December 31, 2019. An Agency may not conduct or sponsor and a person is not required to respond to a collection of information unless it displays a currently valid OMB control number.

DATES: Comments must be submitted on or before June 10, 2019.

ADDRESSES: Submit your comments, referencing Docket ID No. EPA-HQ-OAR-2013-0119 referencing the Docket ID numbers provided for each item in the text, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, Environmental Protection Agency, 2000 Traverwood Dr., Ann Arbor, MI 48105; telephone number: 734-214-4851, fax number: 734-214-4869; email address: sohacki.lynn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: As required by the Clean Air Act, EPA has regulations establishing emission standards and other requirements for various classes of vehicles, engines, and evaporative emission component. These regulations require that compliance be demonstrated prior to EPA granting a “Certificate of Conformity”. EPA charges fees for administering this certification program. In 2004 the fees program was expanded to include nonroad categories of vehicles and engines, such as several categories of marine engines, locomotives, non-road recreational vehicles, and many nonroad compression-ignition and spark-ignition engines. Manufacturers and importers of covered vehicles, engines and components are required to pay the applicable certification fees prior to their certification applications being reviewed by the Agency. Under section 208 of the Clean Air Act (42 U.S.C. 7542(c)) all information, other than trade secret processes or methods, must be publicly available. Information about fee payments is treated as confidential information prior to certification.

Form Numbers: 3520-29.

Respondents/affected entities: Manufacturers or importers of passenger cars, motorcycles, light trucks, heavy duty truck engines, nonroad vehicles or engines, and evaporative emissions components are required to receive a certificate of conformity from EPA prior to selling or introducing these products into commerce in the U.S.

Respondent's obligation to respond: Required to obtain or retain a benefit (40 CFR part 1027).

Estimated number of respondents: 611 (total).

Frequency of response: An average of approximately eight responses per respondent per year.

Total estimated burden: 1,019 hours (per year). Burden is defined at 5 CFR 1320.03(b).

Total estimated cost: $67,445 (per year), includes $11,411 annualized capital or operation & maintenance costs.

Changes in Estimates: There is an increase of 92 hours in the total estimated respondent burden compared with the ICR currently approved by OMB. This increase is based on the increase in the number applications for certification and the associated fees, updates and corrections that are filed by the manufacturer as part of the fee payment process.

Dated: April 3, 2019.
Byron J. Bunker,
Director, Compliance Division, Office of Transportation and Air Quality, Office of Air and Radiation.

[FR Doc. 2019-07213 Filed 4-10-19; 8:45 am]

BILLING CODE 6560-50-P